COMMISSION ON CIVIL RIGHTS

Agenda and Notice of Public Meeting of the Deleware Advisory Committee

Notice is hereby given, pursuant to the provisions of the rules and regulations of the U.S. Commission on Civil Rights, that a meeting of the Delaware Advisory Committee to the Commission will convene at 1:00 p.m. and adjourn at 4:30 p.m. on June 19, 2001, at the Buck Library in the Buena Vista Conference Center, 661 duPont Highway, New Castle, Delaware 19720. The purpose of the meeting is to hold a press conference to release the Committee's report, Delaware Citizens Guide to Civil Rights and Supporting Services, and to hear comments on the report from invited speakers representing minority community and civic organizations in Delaware.

Persons desiring additional information, or planning a presentation to the Committee, should contact Chairperson Dr. James E. Newton, 302-831-8683, or Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, May 21, 2001.
Edward A. Hailes, Jr.,
General Counsel.

[FR Doc. 01-13248 Filed 5-24-01; 8:45 am]

BILLING CODE 6335-01-P